INTERNATIONAL TRADE COMMISSION

[USITC SE-22-054]

Sunshine Act Meetings

Agency Holding the Meeting: United States International Trade Commission.

TIME AND DATE: December 12, 2022 at 11 a.m.

PLACE: Room 101, 500 E Street SW, Washington, DC 20436, Telephone: (202) 205-2000.

STATUS: Open to the public.

MATTERS TO BE CONSIDERED:

1. Agendas for future meetings: none.

2. Minutes.

3. Ratification List.

4. Commission vote on Inv. No. 731-TA-638 (Fifth Review) (Stainless Steel Wire Rod from India). The Commission currently is scheduled to complete and file its determinations and views of the Commission on December 20, 2022.

5. Outstanding action jackets: none.

CONTACT PERSON FOR MORE INFORMATION: Tyrell Burch, Management Analyst, 202-205-2595.

The Commission is holding the meeting under the Government in the Sunshine Act, 5 U.S.C. 552(b). In accordance with Commission policy, subject matter listed above, not disposed of at the scheduled meeting, may be carried over to the agenda of the following meeting.

By order of the Commission:
Issued: December 5, 2022.
Katherine Hiner,
Acting Secretary to the Commission.

[FR Doc. 2022-26709 Filed 12-5-22; 4:15 pm]

BILLING CODE 7020-02-P